DEPARTMENT OF JUSTICE

Office of Justice Programs

28 CFR Part 92

[OJP(OJP)-1205f]

RIN 1121-AA50

Timing of Police Corps Reimbursements of Educational Expenses

AGENCY: Office of Justice Programs, Office of the Police Corps and Law Enforcement Education, Justice.

ACTION: Final rule.

SUMMARY: This final rule adopts without change an interim final rule published by the Office of Justice Programs, Office of the Police Corps and Law Enforcement Education, in the Federal Register on June 21, 1999, at 64 FR 33016-33018. The interim final rule altered the timing of reimbursements to Police Corps participants for eligible educational expenses incurred during years of college study completed before acceptance into the Police Corps. It provided that reimbursements would be paid in two equal installments at the start and conclusion of a participant's first year of required service as a police officer or sheriff's deputy. The interim final rule also permitted the Director of the Office of the Police Corps and Law Enforcement Education to advance the date of a participant's first reimbursement payment on a showing of good cause.

EFFECTIVE DATE: This Final Rule is effective on March 17, 2000.

FOR FURTHER INFORMATION CONTACT: Ingrid Sausjord, Training Program Development Specialist, Office of the Police Corps and Law Enforcement Education at 1-888-94CORPS. This is a toll-free number.

SUPPLEMENTARY INFORMATION: The Office of Justice Programs, Office of the Police Corps and Law Enforcement Education (“Office of the Police Corps”) offers, pursuant to the Police Corps Act, 42 U.S.C. 14091 et seq., and through the Police Corps program, financial aid on a competitive basis to college students who agree to undergo rigorous training and serve as police in specially designated areas for at least four years.

Once a participant is accepted into the Police Corps, he or she receives financial aid on a prospective basis through scholarship payments. 42 U.S.C. 14095(a). If a participant completes one or more years of college study before being accepted into the Police Corps, he or she receives reimbursements for educational expenses incurred during the prior years. 42 U.S.C. 14095(b). The Police Corps Act does not specify the timing of these reimbursements, and the reimbursements do not include interest.

Prior to publication of the interim final rule, the relevant implementing regulation provided that reimbursements would be made through four equal payments, one upon completion of each of the four years of required service. The interim final rule changed that provision to accelerate reimbursements. Under the interim rule, participants were to be paid in two equal installments at the start and completion of a participant's first year of required service as a police officer or sheriff's deputy.

The change enabled participants to promptly repay student loans and, by allowing the Director flexibility in dealing with special individual circumstances, enabled participants to have funds available to make loan payments and meet other ongoing financial obligations during the 16 to 24 weeks of required residential training. By reducing the number of payments per participant, the change also eased the administrative burden on both the Office of the Police Corps and state lead agencies.

The interim rule requested that comments concerning the new provisions be submitted to the Office of the Police Corps by September 20, 1999. The Office of the Police Corps did not receive any comments and is therefore adopting the interim rule as final without change.

Executive Order 12866

This regulation has been drafted and reviewed in accordance with Executive Order 12866, section 1(b), Principles of Regulation. The Office of Justice Programs has determined that this rule is not a “significant regulatory action” under Executive Order 12866, section 3(f), Regulatory Planning and Review, and accordingly this rule has not been reviewed by the Office of Management and Budget.

Executive Order 13132

This regulation will not have substantial direct effects on the States, on the relationship between the national government and the States, or on the distribution of power and responsibilities among the various levels of government. Therefore, in accordance with Executive Order 13132, it is determined that this rule does not have sufficient federalism implications to warrant preparation of a Federalism Assessment.

Regulatory Flexibility Act

The Office of Justice Programs, in accordance with the Regulatory Flexibility Act (5 U.S.C. 605(b)), has reviewed this regulation and by approving it certifies that this regulation will not have a significant economic impact upon a substantial number of small entities for the following reasons:

(1) This rule provides the schedule under which eligible participants receive reimbursements for educational expenses under the Act; and

(2) Such reimbursements impose no requirements on small business or on small entities.

Unfunded Mandates Reform Act of 1995

This rule will not result in the expenditure by State, local, and Tribal governments, in the aggregate, or by the private sector, of $100,000,000 or more in any one year, and it will not uniquely affect small governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100,000,000 or more; a major increase in cost or prices; or significant adverse effects on competition, employment, investment, productivity, innovation, or on the ability of United States-based companies to compete in domestic and export markets.

Paperwork Reduction Act

There are no collection of information requirements contained in this regulation that would require review and approval by the Office of Management and Budget under the Paperwork Reduction Act of 1995 (44 U.S.C. 3501 et seq.).

List of Subjects in 28 CFR Part 92

Colleges and universities, Education, Educational study programs, Educational facilities, Law enforcement officers, Schools, Student aid.

For the reasons set forth in the preamble, the interim final rule revising paragraph (b)(7) of 28 CFR Part 92.5, which was published in the Federal Register on June 21, 1999, at 64 FR 33016-33018, is adopted as a final rule without change.

Dated: February 4, 2000.
Laurie Robinson,
Assistant Attorney General, Office of Justice Programs.

[FR Doc. 00-3388 Filed 2-15-00; 8:45 am]

BILLING CODE 4410-18-P